ENVIRONMENTAL PROTECTION AGENCY

[FRL-7529-3]

Science Advisory Board Staff Office; Notification of a Public Meeting Concerning Public Involvement in EPA Science Advisory Board (SAB) Activities and Announcement of a Public Comment Period on a Proposal to Reorganize the SAB

AGENCY: Environmental Protection Agency (EPA).

ACTION: Notice.

SUMMARY: The EPA Science Advisory Board (SAB) Staff Office is inviting members of the public to attend a public meeting as part of its continued effort to be more effective in obtaining public input in the SAB activities. The SAB Staff Office is also announcing a three-week public comment period on a proposal to reorganize the SAB.

DATES: The public meeting will take place on August 5, 2003, 10 a.m. to 3 p.m., Eastern Daylight Time. Written comments on the proposed reorganization of the SAB may be submitted to Mr. Fred Butterfield at the address identified in the section FOR FURTHER INFORMATION CONTACT no later than August 18, 2003.

ADDRESSES: Information about the meeting location will be announced on the SAB Web site, http://www.epa/sab one week before the meeting and also may be obtained by contacting Ms. Delores Darden as listed in the section FOR FURTHER INFORMATION CONTACT below. The meeting will take place in the Washington, DC Metropolitan area.

FOR FURTHER INFORMATION CONTACT: For information about the public meeting and the agenda, please contact Mr. Robert Flaak, telephone/voice mail at (202) 564-4546, or via e-mail at flaak.robert@epa.gov. Members of the public who have questions about, want to request a paper copy of the proposed reorganization, or would like to submit comments on the reorganization proposal should contact Mr. Fred Butterfield, telephone/voice mail at (202) 564-4561, via e-mail at butterfield.fred@epa.gov, or at the mailing address indicated below. Members of the public who have logistical questions about the meeting described in this notice may contact Ms. Delores Darden, telephone/voice mail at 202-564-2282, via fax at: (202) 501-0582, via e-mail at darden.delores@epa.gov, or at the following mailing address: EPA Science Advisory Board, U.S. Environmental Protection Agency (1400A), 1200 Pennsylvania Avenue, NW., Washington, DC 20460 (FedEx/Courier address: U.S. EPA SAB, Suite 6450, 1200 Pennsylvania Avenue, NW., Washington, DC 20004). General information concerning the SAB can be found on the EPA Web site at: http://www.epa.gov/sab.

SUPPLEMENTARY INFORMATION:

Summary Information and Background Related to the Public Meeting

This public meeting is the second in a series of semiannual meetings that the EPA SAB Staff Office plans to hold with the public as part of its efforts to enhance effective public input as it continues to improve SAB policies and procedures. A description of the background for Staff Office meetings on public involvement in SAB activities can be found in the Federal Register notice published on September 5, 2002 (67 FR 56831-56832). At the August 5, 2003 meeting, the SAB Staff Office will provide a general update and take public comments on its planned efforts to improve policies and procedures at the SAB. One area of focus for discussions will be plans for developing a draft “Guide to Effective Public Participation in SAB Meetings and Report Development.” The Staff Office will also address questions from the public concerning the proposal for reorganizing the SAB and hear public comments on the proposal.

Summary Information and Background Related to the Proposed Reorganization of the SAB

The SAB Staff Office is seeking public comments on a proposed organization of the SAB. The SAB Staff Office has worked extensively with the Reorganization Sub-Committee of the SAB Executive Committee and other EPA offices to develop this proposal. Background information on previous efforts to solicit public input concerning prospective SAB structural reorganization can be found in the Federal Register notice published on November 26, 2002 (67 FR 70729-70730). The Staff Office will consider public comments and consult with the SAB in making its final recommendations on the proposed reorganization to the EPA Administrator. The proposed SAB reorganization is available through the “Recent Additions” link on the EPA SAB Web site or can be obtained from Mr. Butterfield (for addresses see the FOR FURTHER INFORMATION CONTACT section above.) .

The proposed reorganization is intended to enhance the ability of the SAB to carry out its critical mission more effectively. The Staff Office has identified three specific questions for public comment.

(a) Does the proposed reorganization appear to more effectively support the SAB mission in improving the way science is developed and used in environmental decision-making within EPA through its advisory role and peer review function, and does it appear to be flexible enough to support the SAB's mission in meeting future environmental challenges?

(b) Does the proposed reorganization appear to meet the SAB's goal of strengthening the independence of the SAB peer-review process and enhancing the quality of its peer review reports?

(c) If the proposed reorganization is approved, are there any major considerations that the SAB Staff Office should be aware of in planning for and implementing the proposed reorganization, especially in regard to facilitating effective public involvement in SAB processes?

Written comments on the proposed reorganization will be accepted until the date specified above. Written comments should be provided either in hard copy with original signature or electronic copy (acceptable file formats: Adobe Acrobat, WordPerfect, Word, or Rich Text files (in IBM-PC/Windows 95/98 format), and may be sent to Mr. Butterfield at the mailing or e-mailing addresses provided above.

Dated: July 11, 2003.
Vanessa T. Vu,
Director, EPA Science Advisory Board Staff Office.

[FR Doc. 03-18156 Filed 7-17-03; 8:45 am]

BILLING CODE 6560-50-P